DEPARTMENT OF HOMELAND SECURITY

Federal Emergency Management Agency

44 CFR Part 67

[Docket No. FEMA-D-7606]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
ALABAMA
Madison County
Big Cove Creek | Approximately 0.4 mile upstream of the confluence with Flint River | *600 | *599 | Madison County (Unincorporated Areas), City of Huntsville
| Approximately 0.9 mile upstream of Dug Hill Road | None | *688
Big Cove Creek Tributary | At the confluence with Big Cove Creek | None | *656 | Madison County (Unincorporated Areas), City of Huntsville
| Approximately 0.7 mile upstream of the confluence with Big Cove Creek | None | *679
Peevey Creek | Approximately 1.2 miles upstream of the confluence with Robinson Mill Creek | *607 | *608 | Madison County (Unincorporated Areas), City of Huntsville
| Approximately 2.2 miles upstream of the confluence with Robinson Mill Creek | None | *639
City of Huntsville
Maps available for inspection at the City of Huntsville City Hall, 320 Fountain Circle, 2nd Floor, Huntsville, Alabama.
Send comments to the Honorable Loretta Spencer, Mayor of the City of Huntsville, 308 Fountain Circle, Huntsville, Alabama 35805.
Madison County (Unincorporated Areas)
Maps available for inspection at the Madison County Engineering Department, 814 Cook Avenue, Huntsville, Alabama.
Send comments to The Honorable Mike Gillespie, Chairman of Madison County, 100 North Side Square, Huntsville, Alabama 35801.
ALABAMA
Morgan County
Bakers Creek | Approximately 1,600 feet upstream of the confluence with the Tennessee River | •559 | •558 | Morgan County (Unincorporated Areas), City of Decatur
| Approximately 100 feet downstream of West Morgan Road | •620 | •621
Tributary to Bakers Creek | At the confluence with Bakers Creek | •598 | •595 | Morgan County (Unincorporated Areas), City of Decatur
| Approximately 150 feet upstream of Cumberland Avenue Southwest | None | •611
Betty Rye Branch | Approximately 0.8 mile upstream of the confluence with the Tennessee River | •560 | •559 | Morgan County (Unincorporated Areas), City of Decatur
| Approximately 150 feet upstream of Bedford Drive Southwest | •609 | •607
Black Branch | Just upstream of Point Mallard Drive (8th Street Southeast) | •566 | •562 | Morgan County (Unincorporated Areas), City of Decatur
| Approximately 0.2 mile upstream of Regency Boulevard | •567 | •566
Brush Creek | Approximately 650 feet downstream of Brookmead Road | •561 | •562 | City of Decatur
| Approximately 0.2 mile upstream of Royal Drive | •567 | •568
Chapel Hill Branch | Approximately 0.4 mile upstream of the confluence with West Flint Creek | None | •572 | Morgan County (Unincorporated Areas), City of Decatur
| Approximately 2.0 miles upstream of the confluence with West Flint Creek | None | •594
Clark Spring Branch | Approximately 800 feet upstream of the confluence with Brush Creek | •567 | •568 | City of Decatur
| Approximately 400 feet upstream of Asheville Drive Southwest | None | •641
Clark Spring Branch Tributary | At the confluence with Clark Spring Branch | •588 | •587 | City of Decatur
| Approximately 300 feet upstream of Danville Park Drive Southwest | None | •613
Dry Branch | Approximately 0.5 mile downstream of Washington Street | •560 | •559 | Morgan County (Unincorporated Areas), City of Decatur
| Approximately 900 feet upstream of Runnymead Avenue Southwest | •605 | •604
North Dinsmore | Just downstream of U.S. Highway 31 | •563 | •564 | City of Decatur
| Approximately 100 feet upstream of Cedar Lake Road | None | •575
South Dinsmore Middle Tributary | Approximately 50 feet downstream of U.S. Highway 31 | •563 | •564 | Morgan County (Unincorporated Areas), City of Decatur
| Approximately 250 feet upstream of Spring Avenue | None | •610
South Dinsmore North Tributary | At the confluence with South Dinsmore Middle Tributary | None | •567 | City of Decatur
| Approximately 0.5 mile upstream of Lenwood Road | None | •570
South Dinsmore South Tributary | At the confluence with South Dinsmore Middle Tributary | None | •571 | Morgan County (Unincorporated Areas), City of Decatur
| Approximately 1,600 feet upstream of Central Avenue | None | •576
City of Decatur
Maps available for inspection at the City of Decatur Building Department, 402 Lee Street Northeast, Fourth floor, Decatur, Alabama.
Send comments to The Honorable Lynn C. Fowler, Mayor of the City of Decatur, P.O. Box 488, Decatur, Alabama 35602.
Morgan County (Unincorporated Areas)
Maps available for inspection at the Morgan County Engineering Department, 580 Shull Road, Northeast, Hartselle, Alabama.
Send comments to The Honorable Larry Benrich, Chairman of the Morgan County Commission, P.O. Box 668, Decatur, Alabama 35601.
NORTH CAROLINA
Currituck County
Moyock Run | Approximately 100 feet upstream of South Mills Road (S.R. 1227) | None | •10 | Currituck County (Unincorporated Areas)
| Approximately 1.1 miles upstream of South Mills Road (S.R. 1227) | None | •11
Atlantic Ocean | At the Virginia State Boundary | •12 | •16 | Currituck County (Unincorporated Areas)
| Approximately 500 feet west of the intersection of Spindrift Trail and Land Fall Court | None | •7
Currituck Sound | Approximately 0.9 mile east of the intersection of Red Dog Lane and Highway 158 | •7 | •8 | Currituck County (Unincorporated Areas)
| At the northeast corner of the intersection of Brabble Street and Highway 168 | •5 | •4
Currituck County (Unincorporated Areas)
Maps available for inspection at the Currituck County Planning and Inspections Department, 153 Courthouse Road, Currituck, North Carolina.
Send comments to Mr. Dan Scanlon, Currituck County Manager, 153 Courthouse Road, Currituck, North Carolina 27929-0039.
NORTH CAROLINA
Johnston County
East Mingo Creek | At the confluence with Mingo Swamp | None | •220 | Town of Benson, Johnston County (Unincorporated Areas)
| Approximately 0.3 mile downstream of Dennig Road | None | •244
Mingo Swamp | At the Johnston/Sampson county line | None | •172 | Town of Benson, Johnston County (Unincorporated Areas)
| Approximately 0.7 mile upstream of Red Hill Church Road | None | •255
Mingo Swamp Tributary 2 | At the Johnston Harnett county line | None | •205 | Town of Benson, Johnston County (Unincorporated Areas)
| Approximately 400 feet upstream of Hodges Chapel Road | None | •244
Town of Benson
Maps available for inspection at the Benson Town Hall, Zoning Department, 303 East Church Street, Benson, North Carolina.
Send comments to The Honorable Don Johnson, Mayor of the Town of Benson, P.O. Box 69, Benson, North Carolina 27504.
Johnston County (Unincorporated Areas)
Maps available for inspection at the Johnston County Public Utilities Office, 309 East Market Street, Smithfield, North Carolina.
Send comments to Mr. Rick Hester, Johnston County Manager, P.O. Box 1049, Smithfield, North Carolina 27577.
NORTH CAROLINA
Wayne County
Buck Marsh Branch | Approximately 0.2 mile downstream of Zion Church Road | None | •94 | Wayne County (Unincorporated Areas)
| Approximately 0.3 mile upstream of James Price Road | None | •119
Cabin Branch | Approximately 0.9 mile downstream of NC 111 South | None | •97 | Wayne County (Unincorporated Areas)
| Approximately 0.9 mile upstream of Cornerstone Drive | None | •135
Horsepen Branch | At confluence with Lewis Branch | None | •120 | Wayne County (Unincorporated Areas)
| Approximately 450 feet upstream of Emmaus Church Road | None | •155
Jones Branch | Approximately 0.4 mile downstream of Mark Herring Road | None | •101 | Wayne County (Unincorporated Areas)
| Approximately 1.0 mile upstream of Mark Herring Road | None | •133
Jumping Run Branch | Approximately 0.3 mile downstream of NC Highway 55 | None | •110 | Wayne County (Unincorporated Areas)
| Approximately 0.8 mile upstream of NC Highway 55 | None | •127
Lewis Branch | Just upstream of NC Highway 55 | None | •106 | Wayne County (Unincorporated Areas)
| Approximately 1.4 miles upstream of the confluence of Horsepen Branch | None | •137
Unincorporated Areas of Wayne County
Maps available for inspection at the Wayne County Planning Department, 224 East Walnut Street, Goldsboro, North Carolina.
Send comments to Mr. Lee Smith, Wayne County Manager, P.O. Box 227, Goldsboro, North Carolina 27533-0227.
NORTH CAROLINA
Town of Smithfield, Johnston County
Spring Branch | At the upstream side of East Second Street | •129 | •128 | Town of Smithfield
| Approximately 265 feet upstream of Collier Street | •143 | •144
Town of Smithfield
Maps available for inspection at the Smithfield Town Hall, 350 East Market Street, Smithfield, North Carolina.
Send comments to The Honorable Bill Jordan, Mayor of the Town of Smithfield, P.O. Box 761, Smithfield, North Carolina 27577.
PENNSYLVANIA
Township of Manheim, Lancaster County
Landis Run | Approximately 1,000 feet downstream of New Holland Pike | •278 | •279 | Township of Manheim
| Approximately 150 feet downstream of Butter Road | •305 | •306
Maps available for inspection at the Manheim Township Office, 1840 Municipal Drive, Lancaster, Pennsylvania.
Send comments to Mr. James Martin, Manager of the Township of Manheim, 1840 Municipal Drive, Lancaster, Pennsylvania 17601-4162.

(Catalog of Federal Domestic Assistance No. 83.100, “Flood Insurance.”)
Dated: October 18, 2004.
David I. Maurstad,
Acting Director, Mitigation Division, Emergency Preparedness and Response Directorate.

[FR Doc. 04-23702 Filed 10-21-04; 8:45 am]

BILLING CODE 9110-12-P